DEPARTMENT OF THE INTERIOR

Bureau of Land Management

43 CFR Part 4100

[WO-220-1020-24 1A]

Grazing Administration—Exclusive of Alaska

AGENCY: Bureau of Land Management, Interior.

ACTION: Notice of availability.

SUMMARY: The Bureau of Land Management (BLM) announces the availability of the Addendum to the Final Environmental Impact Statement (FEIS) to support amendments of the regulations governing grazing administration. The Addendum responds to comments received on the Draft EIS.

DATES: The Addendum to the Final Environmental Impact Statement is available for review through April 29, 2006.

ADDRESSES: Copies of the Addendum are available at BLM State Offices in 10 western states and the BLM Washington DC office. See the SUPPLEMENTARY INFORMATION for a table of BLM State Offices.

FOR FURTHER INFORMATION CONTACT: E. Lynn Burkett on (202) 468-4110 for information relating to the Addendum or Ted Hudson at (202) 452-3042 for information relating to the rulemaking process. Persons who use a telecommunications device for the deaf (TDD) may contact these individuals through the Federal Information Relay Service (FIRS) at 1-800-877-8330, 24 hours a day, seven days a week.

SUPPLEMENTARY INFORMATION: Copies of the Addendum are available at the following BLM State Offices:

BLM state offices | Address | Phone Nos.
Arizona | One North Central Ave., Phoenix, AZ 85004-4427 | (602) 417-9500
California | 2800 Cottage Way, Room W-1834, Sacramento, CA 95825-1886 | (916) 978-4600
Colorado | 2850 Youngfield St., Lakewood, CO 80215-7093 | (303) 239-3700
Idaho | 1387 S. Vinnell Way, Boise, ID, 83709-1657 | (208) 373-4001
Montana | 5001 Southgate Drive, Billings, MT, 59107 | (406) 896-5012
Nevada | 1340 Financial Blvd., Reno, NV 89502 | (775) 861-6590
New Mexico | 1474 Rodeo Rd., P.O. Box 27115, Santa Fe, NM, 87507-0115 | (505) 438-7501
Oregon | 333 S.W. 1st Ave., Portland, OR 97204 | (503) 808-6024
Utah | 440 West 200 South Suite 500, Salt Lake City, UT 84101 | (801) 539-4010
Wyoming | 5353 Yellowstone Road, P.O. Box 1828, Cheyenne, WY 82009 | (307) 775-6001
Washington, DC | 1620 L St., NW., Washington DC 20036 | (202) 452-7749

If you have Internet access, you can download the Addendum by going to http://www.blm.gov/grazing and follow the directions found at that site.

During the nine years since implementation of the 1995 grazing reforms, a number of discrete concerns have been raised regarding the administration of grazing management. Among other things, the rulemaking addresses a variety of these discrete, administrative issues related to the current regulatory scheme without altering the fundamental structure of the grazing regulations.

The BLM published the proposed rule on December 8, 2003 (68 FR 68452), inviting public comments until February 6, 2004. On January 2, 2004, the BLM issued the Draft EIS for a 60-day public comment period which was extended on January 16, 2004 to March 2, 2004 (69 FR 2559). The Final Environmental Impact Statement was issued December 2004.

Authority: 40 CFR 1506(b).

Julie Jacobson,
Deputy Assistant Secretary of the Interior.

[FR Doc. E6-4662 Filed 3-30-06; 8:45 am]

BILLING CODE 4310-AG-P